Proclamation 7534 of March 21, 2002

Education and Sharing Day, U.S.A., 2002

By the President of the United States of America

A Proclamation

America's future depends in part on ensuring that every child in America receives a quality education. And by teaching our children the importance of serving those in need, we will help fulfill an important part of their education, showing them the rewards that come from compassionate outreach.

Education has always played a vital role in the success of our Nation. It has provided hope through the principle that any citizen can realize the American dream, regardless of background, ethnicity, or faith. By challenging young people to set high goals and to work hard to achieve them, we prepare our youth to carry on the success of the American story and to become leaders of this great Nation. A core foundation of knowledge and values is essential for students to excel and contribute to the well-being of our communities, our country, and the world.

Parents are a child's first and most important teachers, and they provide the cornerstone of a child's early education. Quality teachers, however, also play an important role in a child's personal and intellectual development. The No Child Left Behind Act of 2001, which I signed into law in January 2002, requires that, by the end of the 2005-06 school year, there must be a “highly qualified” teacher in every classroom. Through this new law, States and school districts will have multiple tools to help them meet the new teacher quality requirements. Key elements of this effort include providing State grants to recruit and train teachers, and recruiting high-quality individuals to become teachers, offering expanded student loan forgiveness for teachers. And we must encourage Americans to volunteer their time to serve as mentors to our young people.

Great teachers are also found outside the classroom, making a positive impact on children and on local families. For example, Rabbi Menachem Mendel Schneerson, the Lubavitcher Rebbe, demonstrated the power of teaching others to pursue both intellectual and moral excellence. For this purpose, he established education and outreach centers that offered social services and humanitarian aid. Today, more than 1,400 of these centers operate in 35 countries, meeting the spiritual and material needs of local communities. These beacons of hope communicate the Rebbe's ideal of living a meaningful life through personal responsibility and dedication to those in need. On the 100th anniversary of the Rebbe's birth, I encourage Americans to help teach our young people. In classrooms, homes, and places of worship, we can all make a lasting impact on individual children and thus invest in our country as a whole.

NOW, THEREFORE, I, GEORGE W. BUSH, President of the United States of America, by virtue of the authority vested in me by the Constitution and laws of the United States, do hereby proclaim March 24, 2002, as Education and Sharing Day, U.S.A., 2002. I call on all Americans to help our young people better understand the importance of character and develop a true love of learning. By doing so, we invest in the future of our country.

IN WITNESS WHEREOF, I have hereunto set my hand this twenty-first day of March, in the year of our Lord two thousand two, and of the Independence of the United States of America the two hundred and twenty-sixth.

B

[FR Doc. 02-07361

Filed 03-25-02; 8:45 am]

Billing code 3195-01-P